DEPARTMENT OF COMMERCE

International Trade Administration

(A-570-847)

Persulfates from the People's Republic of China: Notice of Rescission of Antidumping Duty Administrative Review

AGENCY: Import Administration, International Trade Administration, Department of Commerce.

EFFECTIVE DATE: December 19, 2006.

FOR FURTHER INFORMATION CONTACT: Charles Riggle or Marin Weaver Import Administration, Room 1870, International Trade Administration, U.S. Department of Commerce, 14th Street and Constitution Avenue, NW, Washington, DC 20230; telephone: at (202) 482-0650 and (202) 482-2336, respectively.

SUPPLEMENTARY INFORMATION:

Background

On July 3, 2006, the Department of Commerce (“the Department”) published a notice of opportunity to request an administrative review of the antidumping duty order on persulfates from the People's Republic of China (“PRC”). See Antidumping or Countervailing Duty Order, Finding, or Suspended Investigation: Opportunity to Request Administrative Review, 71 FR 37890 (July 3, 2006). On July 31, 2006, FMC Corporation (“FMC”) requested that the Department conduct an administrative review of Shanghai AJ Import and Export Corporation (“Shanghai AJ”). No other parties requested a review. The Department published a notice of the initiation of the antidumping duty administrative review of persulfates from the PRC for the period July 1, 2005, through June 30, 2006. See Initiation of Antidumping and Countervailing Duty Administrative Reviews and Requests for Revocation in Part, 71 FR 51573 (August 30, 2006). On November 21, 2006, FMC withdrew its request for an administrative review.

Rescission of Review

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. FMC withdrew its request before the 90-day deadline. Therefore, we are rescinding this review of the antidumping duty order on persulfates from the PRC covering the period July 1, 2005, through June 30, 2006. The Department will issue appropriate assessment instructions directly to U.S. Customs and Border Protection within 15 days of publication of this rescission.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: December 12, 2006.
Stephen J. Claeys,
Deputy Assistant Secretary for Import Administration.

[FR Doc. E6-21628 Filed 12-18-06; 8:45 am]

BILLING CODE 3510-DS-S